DEPARTMENT OF ENERGY

Federal Energy Regulatory Commission

Notice of Request for Approval to Upgrade River North Marina (Formerly Lake Hill Marina) and Soliciting Comments, Motions to Intervene, and Protests

March 29, 2001.

Take notice that the following application has been filed with the Commission and is available for public inspection:

a. Application Type: Request for approval to permit Russell Lands, Inc. to upgrade an existing marina at the Martin Dam Project.

b. Project No. 349-076.

c. Date Filed: February 12, 2001.

d. Licensee: Alabama Power Company.

e. Name of Project: Martin Dam Project.

f. Location: The project is located on the Tallapoosa River in the counties of Coosa, Elmore, and Tallapoosa, Alabama. The marina site does not involve federal or tribal lands.

g. Filed Pursuant to: Federal Power Act, 16 U.S.C. 791(a)-825(r).

h. Applicant Contact: Mr. James R. Schauer, Alabama Power Company, P.O. Box 2641, 600 North 18th Street, Birmingham, Alabama, 35291. Telephone (205) 257-1401, or E-mail address: jrschaue@southernco.com.

i. FERC Contact: Any questions on this notice should be addressed to Jean Potvin, at jean.potvin@ferc.fed.us, or (202) 219-0022.

j. Deadline for filing comments and or motions: May 4, 2001.

All documents (original and eight copies) should be filed with Mr. David P. Boergers, Secretary, Federal Energy Regulatory Commission, 888 First Street, NE., Washington, DC 20426. Comments, protests and interventions may be filed electronically via the internet in lieu of paper. See, 18 CFR 385.2001(a)(1)(iii) and the instructions on the Commission's web site at http://www.ferc.fed.us/efi/doorbell.htm. Please reference the following number, P-349-076, on any comments or motions filed.

k. Description of Proposal: The licensee proposes to issuee a permit to Russell Lands, Inc. for the following upgrades to the River North Marina: (1) closure of the existing fuel facility and replacement with a state and federally approved facility to be located 1000 feet west of the old tank site (completed); (2) new fueling facility and 6-boat capacity floating fuel dock (completed); (3) forklift ramp and courtesy docks (completed); (4) replacement of the original 44 wooden wet slips with 2 new concrete wet slip docks containing 40 courtesy slips (completed); and (5) construction of a rip rap seawall (completed). In addition to the above facilities within the project boundary, Russell Lands, Inc. has constructed outside the project boundary a new administrative building to provide offices for the marina staff, covered boat showroom, and a 200-capacity dry stack storage building; and improved parking and restroom facilities at the wet slip area.

l. Locations of the Application: A copy of the application is available for inspection and reproduction at the Commission's Public Reference Room, at 888 First Street, NE., Room 2A, Washington, DC 20426, or by calling 202-208-1371. The application may be viewed on-line at http://www.ferc.fed.us/online/rims.htm (call 202-208-2222 for assistance). A copy is also available for inspection and reproduction at the address in item h above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If any agency does not file comments within the time specified for filing comments, it will be presumed to have no comments. One copy of an agency's comments must also be sent to the Applicant's representatives.

David P. Boergers,
Secretary.

[FR Doc. 01-8252 Filed 4-3-01; 8:45 am]

BILLING CODE 6717-01-M